DEPARTMENT OF DEFENSE

Office of the Secretary

Notification of an Open Meeting of the Board of Visitors (BOV), National Defense University

AGENCY: National Defense University.

ACTION: Notice; meeting of Board of Visitors (BOV) at NDU.

SUMMARY: The President, National Defense University has scheduled a meeting of the Board of Visitors. Request subject notice be published in the Federal Register. The National Defense University Board of Visitors is a Federal Advisory Board. The Board meets twice a year in proceedings that are open to the Public.

DATES: The meeting will be held on April 18 and 19, 2005 from 11 a.m. to 5 p.m. on the 18th and continuing on the 19th from 8:30 a.m. to 1:30 p.m.

Location: The Board of Visitors meeting will be held at Building 62, Marshall Hall, Room 155, National Defense University, 300 5th Avenue, Fort McNair, Washington, DC 20319-5066.

FOR FURTHER INFORMATION CONTACT: The point of contact for this notice of an “Open Meeting” is Ms. Tonya Barbee at (202) 6885-3539, Fax (202) 685-3935 or barbee@ndu.edu.

SUPPLEMENTARY INFORMATION: The future agenda will include discussions on Defense transformation, faculty development facilities, information technology, curriculum development, post 9/11 initiatives as well as other operational issued and areas of interests affecting the day-to-day operations of the National Defense University and its components. The meeting is open to the public; limited space made available for observers will be allocated on a first come, first served basis.

Dated: March 14, 2005.
Jeannette Owings-Ballard,
OSD Federal Register Liaison Officer, Department of Defense.

[FR Doc. 05-5431 Filed 3-17-05; 8:45 am]

BILLING CODE 5001-06-M